DEPARTMENT OF COMMERCE

National Oceanic and Atmospheric Administration

50 CFR Part 660

[ID. 051601B]

Fisheries Off West Coast States and in the Western Pacific; Pacific Coast Groundfish Fishery; Application for an Exempted Fishing Permit

AGENCY: National Marine Fisheries Service (NMFS), National Oceanic and Atmospheric Administration (NOAA), Commerce.

ACTION: Notice of receipt of an application for an exempted fishing permit (EFP); request for comments.

SUMMARY: NMFS announces receipt of an application for an EFP from the Washington State Department of Fish and Wildlife (WSDFW). If awarded, the EFP would allow vessels with valid Washington State delivery permits to land certain federally managed groundfish species in excess of cumulative trip limits and sell them for profit, providing the vessel carries a State- sponsored observer. State observers would collect total catch and effort data, and retain specimens that are otherwise not available shoreside. This EFP proposal is intended to promote the objectives of the Pacific Coast Groundfish Fishery Management Plan (FMP) by providing data on total catch and incidental catch rates.

DATES: Comments must be received by June 28, 2001.

ADDRESSES: Copies of the EFP application are available from Becky Renko, Northwest Region, NMFS, 7600 Sand Point Way N.E., Bldg. 1, Seattle, WA 98115-0070.

FOR FURTHER INFORMATION CONTACT: Becky Renko, 206-526-6140.

SUPPLEMENTARY INFORMATION: This action is authorized by the FMP and implementing regulations at 50 CFR 600.745 and 50 CFR 660.350.

On April 5, 2001, NMFS received an EFP application from the WSDFW. The purpose of this exempted fishing activity would be to measure bycatch rates for canary rockfish and other rockfish species associated with fishing strategies currently used in the northern arrowtooth flounder fishery off Washington State.

Fishing for arrowtooth flounder, which is an abundant and commercially important species off Washington State, is constrained by efforts to rebuild canary rockfish, an overfished species. Fishers who have historically targeted arrowtooth flounder believe that the fishery can be prosecuted with a much lower rockfish bycatch rate than is currently assumed.

If issued, this EFP would allow certain vessels with valid Washington State delivery permits to retain and sell groundfish species in excess of cumulative trip limits, and would provide for a State-run observer program where observers collect and retain specimens of otherwise prohibited fish caught by the vessel. Observers would also collect much-needed data from which incidental catch rates and total catch of various species and species groups could be estimated. Without an EFP, groundfish regulations at 50 CFR 660.306(f) restrict vessels from landing groundfish species or species groups in excess of trip limits.

Data collected during this project is expected to have a broad significance to the management of the groundfish fishery by providing much needed information on: (1) Total catch in the northern flatfish fishery; (2) catch rates of incidentally caught species, including canary rockfish by fishing location; and (3) age structure data that is otherwise not available from landed catch. To the extent possible, data provided by the State observers will be compatible with that data collected by the NMFS coastwide observer program. If the EFP is issued, approximately seven vessels are expected to fish under the EFP from July to September 2001. All groundfish caught under this EFP would be counted against the optimum yields (OYs) for those species and will not result in total harvest above expected levels. NMFS will include special provisions should they be necessary to ensure that the canary rockfish OY is not exceeded.

In accordance with Pacific Coast groundfish regulations, NMFS has determined that the proposal warrants further consideration and has initiated consultation with the Pacific Fishery Management Council (Council). The Council will consider the EFP application during its June 11-15, 2001, meeting, which will be held at the Park Plaza Hotel, in Burlingame, CA. The applicants have been invited to appear in support of their application. A copy of the application is available for review from NMFS (see ADDRESSES).

Authority: 16 U.S.C. 1801 et seq.

Dated: May 22, 2001.
Richard W. Surdi,
Acting Director, Office of Sustainable Fisheries, National Marine Fisheries Service.

[FR Doc. 01-13434 Filed 5-25-01; 8:45 am]

BILLING CODE 3510-22-S